ENVIRONMENTAL PROTECTION AGENCY

[FRL-7237-6]

Agency Information Collection Activities: Submission for OMB Review; Comment Request: EPA Laboratory Quality Assurance Evaluation Program for Analysis of Cryptosporidium Under the Safe Drinking Water Act

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: EPA Laboratory Quality Assurance Evaluation Program for Analysis of Cryptosporidium under the Safe Drinking Water Act, ICR No. 2067.02, OMB Control No. 2040-0246, expiration date of July 31, 2002. The ICR describes the nature of the information collection and its expected burden and cost; where appropriate, it includes the actual data collection instrument.

DATES: Comments must be submitted on or before July 26, 2002.

ADDRESSES: Send comments, referencing EPA ICR No.2067.02 and OMB Control No. 2040-0246, to the following addresses: Susan Auby, U.S. Environmental Protection Agency, Collection Strategies Division (Mail Code 2822T), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at auby.susan@epamail.epa.gov, or download off the Internet at http://www.epa.gov/icr and refer to EPA ICR No. 2067.02, the ICR number has changed from the last notice. All requests should refer to EPA ICR No. 2067.02 and not EPA ICR No. 2052.02. For technical inquiries, contact Mary Ann Feige, EPA, Office of Ground Water and Drinking Water, Technical Support Center, 26 West Martin Luther King Drive (MS-140), Cincinnati, Ohio 45268, fax number, (513) 569-7191, e-mail address, feige.maryann@epa.gov.

SUPPLEMENTARY INFORMATION: Title: EPA Laboratory Quality Assurance Evaluation Program for Analysis of Cryptosporidium under the Safe Drinking Water Act (OMB Control No. 2040-0246 ; EPA ICR No. 2067.02) expiring 7/31/02. This is a request for extension of a currently approved collection.

Abstract: EPA is initiating the Laboratory Quality Assurance Program for Cryptosporidium analysis to ensure an adequate capacity at approved laboratories to support Long Term 2 Enhanced Surface Water Treatment Rule (LT2ESWTR) monitoring. This is a voluntary program open to laboratories analyzing Cryptosporidium in water. EPA will be collecting data on laboratories, ability and capacity to measuring Cryptosporidium with Methods 1622/23.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on March 4, 2002. Three comments were received.

Comments requested further information on the details of the Laboratory Quality Assurance Program. In response, EPA has added supplementary information to the ICR and also developed a webpage to provide further information on the program; the website can be accessed at http://www.epa.gov/safewater/lt2/cla_ final.html.

Commentors expressed concern about identifying adequate laboratory capacity to implement LT2ESWTR, the burden costs, training opportunities, and grandfathered data, EPA has addressed all of these comments in the ICR supporting statement.

Burden Statement: The annual public reporting and record keeping burden for this collection of information is estimated to average 18 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Testing Laboratories.

Estimated Number of Respondents: 60.

Frequency of Response: 3 times per year.

Estimated Total Annual Hour Burden: 4347 hours.

Estimated Total Annualized Capital, O&M Cost Burden: $123,380.

Send comments on the Agency's need for this information, the accuracy of the provided burden estimates, and any suggested methods for minimizing respondent burden, including through the use of automated collection techniques to the addresses listed above. Please refer to EPA ICR No. 2067.02 and OMB Control No. 2040-0246 in any correspondence.

Dated: June 10, 2002.
Oscar Morales,
Director, Collection Strategies Division.

[FR Doc. 02-16134 Filed 6-25-02; 8:45 am]

BILLING CODE 6560-50-P